DEPARTMENT OF TRANSPORTATION

Surface Transportation Board

[STB Finance Docket No. 34902]

Michigan Air-Line Railway Co.—Acquisition and Operation Exemption—Rail Line of Coe Rail, Inc.

Michigan Air-Line Railway Co. (MAL), a noncarrier, has filed a verified notice of exemption under 49 CFR 1150.31 to acquire from Coe Rail, Inc., and operate approximately 8.07 miles of rail line between milepost 50.7, at a point of connection to CSX Transportation, Inc., approximately 1,000 feet west of Wixom Road at or near Wixom, and end of track at milepost 42.63 at the west edge of Arrowhead Road in West Bloomfield Township, in Oakland County, MI.

MAL certifies that its projected annual revenues as a result of the transaction will not exceed those that would qualify it as a Class III rail carrier.

Consummation was scheduled to take place no earlier than July 5, 2006 (7 days after filing).

If the verified notice contains false or misleading information, the exemption is void ab initio. Petitions to revoke the exemption under 49 U.S.C. 10502(d) may be filed at any time. The filing of a petition to revoke will not automatically stay the transaction.

An original and 10 copies of all pleadings, referring to STB Finance Docket No. 34902, must be filed with the Surface Transportation Board, 1925 K Street, NW., Washington, DC 20423-0001. In addition, a copy of each pleading must be served on Thomas F. McFarland, 208 South LaSalle St., Suite 1890, Chicago, IL 60604-1112.

Board decisions and notices are available on our Web site at http://www.stb.dot.gov.

Decided: July 17, 2006.
By the Board, David M. Konschnik, Director, Office of Proceedings.
Vernon A. Williams,
Secretary.

[FR Doc. E6-11591 Filed 7-21-06; 8:45 am]

BILLING CODE 4915-01-P